DEPARTMENT OF COMMERCE

Patent and Trademark Office

Submission for OMB Review; Comment Request; Patents External Quality Survey

The United States Patent and Trademark Office (USPTO) will submit to the Office of Management and Budget (OMB) for clearance the following proposal for collection of information under the provisions of the Paperwork Reduction Act (44 U.S.C. chapter 35).

Agency: United States Patent and Trademark Office (USPTO).

Title: Patents External Quality Survey.

OMB Control Number: 0651-0057.

Form Number(s):

• No forms associated.

Type of Request: Regular collection renewal.

Number of Respondents: 2,500.

Average Minutes per Response: USPTO estimates that it will take the public 10 minutes (.17 hours) to gather the necessary information, prepare, and submit the requirements in this collection.

Burden Hours: 416.67.

Cost Burden: $0.

Needs and Uses: Individuals who work at firms that file more than six patent applications a year use the Patents External Quality Survey to provide the USPTO with their perceptions of examination quality. The USPTO uses the feedback gathered from the survey to assist them in targeting key areas for examination quality improvement and to identify important areas for examiner training.

Affected Public: Individuals or households; businesses or other for-profits; and not-for-profit institutions.

Frequency: Semi-annually.

Respondent's Obligation: Voluntary.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0057 copy request” in the subject line of the message.

• Mail: Marcie Lovett, Chief, Records and Information Governance Branch, Office of the Chief Adminstrative Officer, United States Patent and Trademark Office, P.O. Box 1450, Alexandria, VA 22313-1450.

Written comments and recommendations for the proposed information collection should be sent on or before May 17, 2019 to Nicholas A. Fraser, OMB Desk Officer, via email to Nicholas_A._Fraser@omb.eop.gov, or by fax to 202-395-5167, marked to the attention of Nicholas A. Fraser.

Marcie Lovett,
Chief, Records and Information Governance Branch, Office of the Chief Administrative Officer, USPTO.

[FR Doc. 2019-07642 Filed 4-16-19; 8:45 am]

BILLING CODE 3510-16-P